DEPARTMENT OF COMMERCE

National Oceanic and Atmospheric Administration

[I.D. 111703H]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings. December 8 through December 16, 2003.

DATES: The Council's Advisory Panel will begin at 8 a.m., Monday, December 8, 2003, and continue through Saturday, December 13, 2003.

The Scientific and Statistical Committee will begin at 8 a.m. on Monday, December 8, 2003, and continue through Wednesday, December 10, 2003.

The Council will begin its plenary session at 8 a.m. on Wednesday, December 10, 2003 and continue through Tuesday December 16, 2003.

The Enforcement Committee will meet Tuesday, October 7, at 6:30 p.m.

All meetings are open to the public except executive sessions.

ADDRESSES: The meetings will be held at the Anchorage Hilton Hotel, 500 W 3rd Avenue, Anchorage, AK.

Council address: North Pacific Fishery Management Council, 605 W. 4th Ave., Suite 306, Anchorage, AK 99501-2252.

FOR FURTHER INFORMATION CONTACT: Council staff, Phone: 907-271-2809.

SUPPLEMENTARY INFORMATION:

Council Plenary Session

The agenda for the Council's plenary session will include the following issues. The Council may take appropriate action on any of the issues identified.

1. Reports

(a) Executive Director's Report

(b) National Marine Fisheries Service Management Report

(c) United States Coast Guard Report/NMFS Enforcement Report

(d) Alaska Department Fish & Game Reports

(e) United States Fish & Wildlife Report

2. Gulf of Alaska Rationalization

(a) Receive report from Joint Protocol Committee

(b) Receive Groundfish Development Authority (Council only)

(c) Review and refine alternatives and options

3. Observer Program

(a) Program overview (Alaska Fishery Science Center)

(b) Preliminary review of Program Restructuring Analysis

4. Improved Retention/Improved Utilization

(a) Receive report from NMFS on Amendment 79

(b) Review Committee report

(c) Finalize alternatives and options for Amendments 80a and 80b

5. Halibut and Sablefish Individual Fishing Quotas (IFQ)

(a) Receive report from IFQ Implementation and Cost Recovery Committee, and review IFQ proposals.

6. Groundfish Management

(a) Final action to adopt final Gulf of Alaska groundfish specifications for 2004

(b) Final action to adopt final Bering Sea Aleutian Islands groundfish specifications for 2004

(c) Discuss alternatives and schedule for repealing the Vessel Incentive Program.

7. Staff Tasking

(a) Review tasking and provide direction to staff

(b) Discuss direction to Committees

8. Other Business

Scientific and Statistical Committee (SSC): The SSC agenda will include the following issues:

(a) D-1 Groundfish Management

(b) C-2 Observer Program

Advisory Panel: The Advisory Panel will address the same agenda issues as the Council.

Enforcement Committee: The Enforcement Committee will meet during each meeting of the Council to discuss enforcement issues or concerns related to any subject on the Council agenda.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at 907-271-2809 at least 7 working days prior to the meeting date.

Dated: November 18, 2003.
Richard W. Surdi,
Acting Director, Office of Sustainable Fisheries, National Marine Fisheries Service.

[FR Doc. E3-00389 Filed 11-21-03; 8:45 am]

BILLING CODE 6717-01-P